DEPARTMENT OF AGRICULTURE

Forest Service

Cibola National Forest; New Mexico; Tajique Watershed Restoration Project

AGENCY: Forest Service, USDA.

ACTION: Withdrawal of an environmental impact statement.

SUMMARY: On August 20, 2004, the Federal Register published a Notice of Intent (NOI) to prepare an Environmental Impact Statement (EIS) for the Tajique Watershed Restoration Project on the Cibola National Forest, Mountainair Ranger District (69 FR 51626-51628). The Environmental Protection Agency (EPA) published the notice of availability of the Draft EIS in the Federal Register on February 4, 2006 (70 FR 6004). The EPA published a notice of availability for the Final EIS in the Federal Register on October 21, 2005 (69 FR 61287) and an amended notice of availability of the Final EIS on November 4, 2005 (70 FR 67166). The project had been developed in accordance with Title I of the Healthy Forests Restoration Act of 2003 (Pub. L. 108-148). After the distribution of the Final EIS, the Forest Service received an objection during the pre-decisional administrative review period on the project. There was no resolution to the objection and the Forest Service has made no decision to implement any alternative analyzed in the document. The Department of Agriculture, Forest Service is issuing this notice to advise the public that we are withdrawing the Tajique Watershed Restoration EIS and will not issue a Record of Decision. The Forest Service plans to reassess the proposal and determine whether or not to propose any activities within the Tajique project area. The NEPA process would be re-initiated for any new proposed actions.

FOR FURTHER INFORMATION CONTACT: Karen Lessard, District Ranger, Mountainair Ranger District, Cibola National Forest, P.O. Box 69, Mountainair, NM 87036-0069, Phone (505) 847-2290, Fax (505) 847-2238.

Dated: May 22, 2007.
Nancy Rose,
Forest Supervisor.

[FR Doc. 07-2975 Filed 6-14-07; 8:45 am]

BILLING CODE 3410-11-M